DEPARTMENT OF ENERGY

Federal Energy Regulatory Commission

[Docket No. RP04-396-000]

Eastern Shore Natural Gas Company; Notice of Proposed Changes in FERC Gas Tariff

July 12, 2004.

Take notice that on July 7, 2004, Eastern Shore Natural Gas Company (ESNG) tendered for filing as part of its FERC Gas Tariff, Second Revised Volume No. 1, the tariff sheets listed on Appendix A to the filing, to be effective August 1, 2004.

Northern states that the purpose of the filing is to track rate changes attributable to a storage service purchased from Columbia Gas Transmission Corporation (Columbia) under their Rate Schedules FSS and SST. ESNG indicates that the costs of the above referenced storage service comprises the rates and charges payable under ESNG's Rate Schedule CFSS. ESNG notes that the tracking filing is being made pursuant to section 3 of ESNG's Rate Schedule CFSS.

ESNG states that copies of the filing have been served upon its jurisdictional customers and interested State Commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1599 Filed 7-15-04; 8:45 am]

BILLING CODE 6717-01-P